NUCLEAR REGULATORY COMMISSION

[Docket No. 50-302; NRC-2010-0105]

Florida Power Corporation, et al.; Crystal River Unit 3 Nuclear Generating Plant Environmental Assessment and Finding of No Significant Impact

The U.S. Nuclear Regulatory Commission (NRC) is considering issuance of an exemption, pursuant to Title 10 of the Code of Federal Regulations (10 CFR) Section 73.5, “Specific exemptions,” from the implementation date for certain new requirements of 10 CFR part 73, “Physical protection of plants and materials,” for Facility Operating License No. DPR 72 issued to Florida Power Corporation (the licensee), for operation of the Crystal River Unit 3 Nuclear Generating Plant (CR-3), located in Citrus County, Florida. In accordance with 10 CFR 51.21, the NRC prepared an environmental assessment documenting its finding. The NRC concluded that the proposed actions will have no significant environmental impact.

Environmental Assessment

Identification of the Proposed Action

The proposed action would exempt the licensee from the required implementation date of March 31, 2010, for four new requirements of 10 CFR part 73. Specifically, CR-3 would be granted a second exemption, further extending the date for full compliance with four new requirements contained in 10 CFR 73.55, from November 15 and December 15 (the dates specified in a prior exemption granted by NRC on March 25, 2010), until December 15, 2011 and March 15, 2012, respectively. The licensee has proposed an alternate full compliance implementation date of March 15, 2012, which is approximately 2 years beyond the compliance date required by 10 CFR part 73. The proposed action, an extension of the schedule for completion of certain actions required by the revised 10 CFR part 73, does not involve any physical changes to the reactor, fuel, plant structures, support structures, water, or land at the CR-3 site.

The proposed action is in accordance with the licensee's application dated September 8, 2010.

The Need for the Proposed Action

The proposed second scheduler exemption is needed to provide the licensee with additional time, beyond the previously approved by the NRC letter dated March 25, 2010, to implement four specific elements of the new requirements that involve significant physical upgrades to the CR-3 security system. The schedules used in the original scheduler exemption were based on the conceptual design information available to the licensee at the time of the submittal. At this time, the licensee has fully developed the design and has completed the discovery phase. Therefore, due to the unforeseen need for design changes necessary to achieve full compliance with the Final Rule, additional time is needed to complete the complex revised design and construction and associated analysis.

Environmental Impacts of the Proposed Action

The NRC has completed its environmental assessment of the proposed exemption. The NRC staff has concluded that the proposed action to further extend the implementation deadline for two items would not significantly affect plant safety and would not have a significant adverse effect on the probability of an accident occurring.

The proposed action would not result in an increased radiological hazard beyond those hazards previously analyzed in the environmental assessment and finding of no significant impact made by the Commission in promulgating its revisions to 10 CFR part 73 as discussed in a Federal Register notice dated March 27, 2009; 74 FR 13926. There will be no change to radioactive effluents that affect radiation exposures to plant workers and members of the public. Therefore, no changes or different types of radiological impacts are expected as a result of the proposed exemption.

The proposed action does not result in changes to land use or water use, or result in changes to the quality or quantity of nonradiological effluents. No changes to the National Pollution Discharge Elimination System permit are needed. No effects on the aquatic or terrestrial habitat in the vicinity of the plant, or to threatened, endangered, or protected species under the Endangered Species Act, or impacts to essential fish habitat covered by the Magnuson-Stevens Act are expected. There are no impacts to the air or ambient air quality.

There are no impacts to historical and cultural resources. There would be no impact to socioeconomic resources. Therefore, no changes to or different types of nonradiological environmental impacts are expected as a result of the proposed exemption.

Accordingly, the NRC concludes that there are no significant environmental impacts associated with the proposed action. In addition, in promulgating its revisions to 10 CFR part 73, the Commission prepared an environmental assessment and published a finding of no significant impact [Part 73, Power Reactor Security Requirements, March 27, 2009; 74 FR 13926].

With its request to extend the implementation deadline, the licensee currently maintains a security system acceptable to the NRC and that will continue to provide acceptable physical protection of CR-3 in lieu of the new requirements in 10 CFR part 73. Therefore, the extension of the implementation date for four elements of the new requirements of 10 CFR part 73 to December 15, 2011, and March 15, 2012, would not have any significant environmental impacts.

The NRC staff's safety evaluation will be provided in the exemption that will be issued as part of the letter to the licensee approving the exemption to the regulation, if granted.

Environmental Impacts of the Alternatives to the Proposed Action

As an alternative to the proposed actions, the NRC staff considered denial of the proposed action (i.e., the “no-action” alternative). Denial of the exemption request would result in no change in current environmental impacts. If the proposed action was denied, the licensee would have to comply with the existing implementation deadline for those specific items of November 15, and December 15, 2010, as extended by the exemption granted on March 25, 2010. The environmental impacts of the proposed exemption and the “no-action” alternative are similar.

Alternative Use of Resources

The action does not involve the use of any different resources than those previously considered in the Final Environmental Statement for CR-3, dated May 1973.

Agencies and Persons Consulted

In accordance with its stated policy, on November 4, 2010, the NRC staff consulted with the Florida State official, Mr. William A. Passeti of the Florida Department of Health, Bureau of Radiation Control regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 8, 2010. Portions of the September 8, 2010, submittal contains security-related information and, accordingly, a redacted version of this letter is available for public review in the Agencywide Documents Access and Management System (ADAMS), Accession No. ML102530129. This document may be examined, and/or copied for a fee, at the NRC's Public Document Room (PDR), located at One White Flint North, Public File Area O-1F21, 11555 Rockville Pike (first floor), Rockville, Maryland 20852. Publicly available records will be accessible electronically from the ADAMS Public Electronic Reading Room on the Internet at the NRC Web site: http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, on November 5, 2010.
For the Nuclear Regulatory Commission.
Christopher Gratton,
Senior Project Manager, Plant Licensing Branch II-2, Division of Operating Reactor Licensing, Office of Nuclear Reactor Regulation.

[FR Doc. 2010-28633 Filed 11-12-10; 8:45 am]

BILLING CODE 7590-01-P